DEPARTMENT OF ENERGY

Federal Energy Regulatory Commission

Notice of FERC Staff Attendance at Southwest Power Pool Board of Directors/Members Committee Meeting, Southwest Power Pool Regional State Committee Meeting and Cost Allocation Working Group Meeting

April 14, 2009.

The Federal Energy Regulatory Commission hereby gives notice that members of its staff may attend the meetings of the Southwest Power Pool (SPP) Regional State Committee, SPP Members Committee, SPP Board of Directors and Cost Allocation Working Group, as noted below. Their attendance is part of the Commission's ongoing outreach efforts.

SPP Regional State Committee Meeting

April 27, 2009 (1 p.m.-5 p.m.), Skirvin Hotel, One Park Avenue, Oklahoma City, OK 73102, 405-272-3040.

SPP Board of Directors—Members Committee Meeting

April 28, 2009 (8:30 a.m.-3 p.m.), Skirvin Hotel, One Park Avenue, Oklahoma City, OK 73102, 405-272-3040.

SPP Cost Allocation Working Group Meeting

April 29, 2009 (8 a.m.-12 p.m.), Skirvin Hotel, One Park Avenue, Oklahoma City, OK 73102, 405-272-3040.

The discussions may address matters at issue in the following proceedings:

Docket No. ER06-451, Southwest Power Pool, Inc.

Docket Nos. ER07-319 and EL07-73, Southwest Power Pool, Inc.

Docket No. ER07-371, Southwest Power Pool, Inc.

Docket No. ER07-1255, Southwest Power Pool, Inc.

Docket No. ER08-923, Southwest Power Pool, Inc.

Docket No. ER08-1307, Southwest Power Pool, Inc.

Docket No. ER08-1308, Southwest Power Pool, Inc.

Docket No. ER08-1357, Southwest Power Pool, Inc.

Docket No. ER08-1358, Southwest Power Pool, Inc.

Docket No. ER08-1419, Southwest Power Pool, Inc.

Docket No. ER08-1516, Southwest Power Pool, Inc.

Docket No. EL08-80-, Oklahoma Corporation Commission

Docket No. ER09-35, Tallgrass Transmission LLC

Docket No. ER09-36, Prairie Wind Transmission LLC

Docket No. ER09-149, Southwest Power Pool, Inc.

Docket No. ER09-262, Southwest Power Pool, Inc.

Docket No. ER09-336, Southwest Power Pool, Inc.

Docket No. ER09-342, Southwest Power Pool, Inc.

Docket No. ER09-443, Southwest Power Pool, Inc.

Docket No. ER09-659, Southwest Power Pool, Inc.

Docket No. ER09-748, Southwest Power Pool, Inc.

Docket No. OA08-5 and EL09-40, Southwest Power Pool, Inc.

Docket No. OA08-60, Southwest Power Pool, Inc.

Docket No. OA08-61, Southwest Power Pool, Inc.

Docket No. OA08-104, Southwest Power Pool, Inc.

These meetings are open to the public.

For more information, contact Patrick Clarey, Office of Energy Market Regulation, Federal Energy Regulatory Commission at (317) 249-5937 or patrick.clarey@ferc.gov.

Kimberly D. Bose,
Secretary.

[FR Doc. E9-9078 Filed 4-20-09; 8:45 am]

BILLING CODE 6717-01-P